ELECTION ASSISTANCE COMMISSION

Notice of Sunshine Act Meeting

AGENCY: United States Election Assistance Commission.

ACTION: Notice of Public Meeting.

Date and Time: Thursday, July 13, 2006, 9:30 a.m.-12:30 p.m. (MDT).

Place: Hilton Santa Fe Historic Plaza—Mesa C., 100 Sandoval Street, Santa Fe, NM 87501. (505) 988-2811.

Agenda: The Commission will receive presentations on effective ballot design and effective polling place signage. The Commission will receive reports on other administrative matters.

This meeting will be open to the public.

FOR FURTHER INFORMATION CONTACT: Bryan Whitener, Telephone: (202) 566-3100.

Thomas R. Wilkey,
Executive Director, U.S. Election Assistance Commission.

[FR Doc. 06-5825 Filed 6-26-06; 1:52 pm]

BILLING CODE 6820-KF-M